DEPARTMENT OF ENERGY

Federal Energy Regulatory Commission

[Project No. 15041-000]

One Drop Hydro, LLC; Notice of Preliminary Permit Application Accepted for Filing and Soliciting Comments, Motions To Intervene, and Competing Applications

On August 4, 2020, One Drop Hydro, LLC, filed an application for a preliminary permit, pursuant to section 4(f) of the Federal Power Act, proposing to study the feasibility of the Elizabeth Webbing Falls Dam Project (project) located on the Blackstone River, in Central Falls, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) An existing 220-foot-long, 14-foot-high rock fill, gravity, earth dam with a crest elevation of 34.9 feet above mean sea level (msl); (2) an existing impoundment with a surface area of 2.54 acres and a total storage capacity of 23.87-acre-feet at a surface elevation of 25 feet msl; (3) an existing concrete intake structure with a 50-foot-wide mechanical trash rake; (4) an existing 45-foot-long concrete intake canal; (5) an existing 20-foot-long, 50-foot-wide, 35-foot-high concrete powerhouse that would include a new 999-kilowatt Kaplan turbine-generator unit; (6) an existing 45-foot-long concrete tailrace; (7) a new 0.06-mile-long transmission line; and (8) appurtenant facilities. The estimated annual generation of the Elizabeth Webbings Falls Dam Project would be 6,500 megawatt-hours.

Applicant Contact: Mr. Justin Bristol, Manager, One Drop Hydro, LLC, P.O. Box 2033, Kingston, Rhode Island 02881; phone: (401) 793-6041; email: jbristol@onedrophydro.com.

FERC Contact: Taconya D. Goar; phone: (202) 502-8394; email: Taconya.Goar@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15041-000.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659. Enter the docket number (P-15041) in the docket number field to access the document. For assistance, contact FERC Online Support.

Dated: October 22, 2020.
Nathaniel J. Davis, Sr.,
Deputy Secretary.

[FR Doc. 2020-23870 Filed 10-27-20; 8:45 am]

BILLING CODE 6717-01-P